NATIONAL FOUNDATION ON THE ARTS AND THE HUMANITIES

National Endowment for the Arts; Combined Arts Advisory Panel

Pursuant to section 10(a)(2) of the Federal Advisory Committee Act (Public Law 92-463), as amended, notice is hereby given that four meetings of the Combined Arts Advisory Panel to the National Council on the Arts will be held at the Nancy Hanks Center, 1100 Pennsylvania Avenue, NW., Washington, DC 20506 as follows:

Music: June 30-July 2, 2003, Room 716 (Creativity category—Panel A). A portion of this meeting, from 1 p.m. to 2 p.m. on July 2nd, will be open to the public for policy discussion. The remaining portions of this meeting, from 9 a.m. to 6 p.m. on June 30th and July 1st, and from 9 a.m. to 1 p.m. and 2 p.m. to 2:30 p.m. on July 2nd, will be closed.

Music: July 2, 2003, Room 714 (Services to Arts Organizations and Artists category). This meeting will be closed.

Music: July 14-18, 2003, Room 714 (Creativity category—Panel B). A portion of this meeting, from 9 a.m. to 10:30 a.m. on July 18th, will be open to the public for policy discussion. The remaining portions of this meeting, from 9 a.m. to 5:30 p.m. on July 14th-17th, and from 10:30 a.m. to 3 p.m. on July 18th, will be closed.

Theater: July 14-18, 2003, Room 730 (Creativity category). A portion of this meeting, from 3 p.m. to 4:30 p.m. on July 17th, will be open to the public for policy discussion. The remaining portions of this meeting, from 9:30 a.m. to 6:30 p.m. on July 14th-16th, from 9:30 a.m. to 3 p.m. and 4:30 p.m. to 6:30 p.m. on July 17th, and from 9:30 a.m. to 5 p.m. on July 18th, will be closed.

The closed meetings and portions of meetings are for the purpose of Panel review, discussion, evaluation, and recommendation on applications for financial assistance under the National Foundation on the Arts and the Humanities Act of 1965, as amended, including information given in confidence to the agency by grant applicants. In accordance with the determination of the Chairman of April 30, 2003, these sessions will be closed to the public pursuant to (c)(4)(6) and (9)(B) of section 552b of Title 5, United States Code.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW., Washington, DC 20506, (202) 682-5532, TDY-TDD (202)682-5496, at least seven (7) days prior to the meeting.

Further information with reference to this meeting can be obtained from Ms. Kathy Plowitz-Worden, Office of Guidelines & Panel Operations, National Endowment for the Arts, Washington, DC 20506, or call (202) 682-5691.

Dated: June 3, 2003.
Kathy Plowitz-Worden,
Panel Coordinator, Panel Operations, National Endowment for the Arts.

[FR Doc. 03-14568 Filed 6-9-03; 8:45 am]

BILLING CODE 7537-01-P